DEPARTMENT OF DEFENSE

Department of the Navy

Privacy Act of 1974; System of Records

AGENCY: Department of the Navy, DoD.

ACTION: Notice to add an exempt system of records.

SUMMARY: The Department of the Navy proposes to add an exempt system of records to its inventory of records systems notices subject to the Privacy Act of 1974 (5 U.S.C. 552a), as amended.

DATES: This action will be effective on May 4, 2000, unless comments are received that would result in a contrary determination.

ADDRESSES: Send comments to the Department of the Navy, PA/FOIA Policy Branch, Chief of Naval Operations (N09B30), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act was submitted on March 23, 2000, to the House Committee on Government Reform, the Senate Committee on Governmental Affairs, and the Office of Management and Budget (OMB) pursuant to paragraph 4c of Appendix I to OMB Circular No. A-130, “Federal Agency Responsibilities for Maintaining Records About Individuals,” dated February 8, 1996, (61 FR 6427, February 20, 1996).

Dated: March 29, 2000.
L.M. Bynum,
Alternate OSD Federal Register Liaison Officer, Department of Defense.

N05813-4

System name:

Trial/Government Counsel Files.

System location:

Trial Service Offices, Detachments, and Branch Offices which have trial counsel assigned, regardless of branch of service. Official mailing addresses are published as an appendix to the Navy's compilation of system of record notices.

Categories of individuals covered by the system:

Navy, Marine Corps, and Coast Guard members who have been charged with violating the Uniform Code of Military Justice (UCMJ) and pending trial by court-martial, an investigation pursuant to Article 32, UCMJ, or a Court or Board of Inquiry; convicted or acquitted by court-martial; charged with violating the UCMJ in cases in which charges were dismissed; or the subject of a military justice investigation, a Court or Board of Inquiry, or other administrative or disciplinary hearing, which did not result in a court-martial.

Categories of records in the system:

Charge sheets; convening orders; appointing orders; investigative reports of Federal, state, and local law enforcement agencies; local command investigations; witness statements; results from witness interviews; witness travel claim programs and files; documentary evidence; pretrial advice; immunity requests; search authorizations; general correspondence; legal research and memoranda; motions; forensic reports; pretrial confinement orders; personnel, financial, and medical records; report of Article 32, UCMJ investigations; report of Court or Board of Inquiry; subpoenas; discovery requests; correspondence reflecting pretrial negotiations; requests for resignation or discharge in lieu of trial by court-martial; work-product of trial counsel and trial department staff; results of trial memoranda; case tracking programs and files; and forms to comply with the Victim and Witness Assistance Program, the Sexual Assault Prevention and Response Program, and the Victims' Rights and Restitution Act of 1990.

Authority for maintenance of the system:

5 U.S.C. 301, Departmental Regulations; 42 U.S.C. 10606-10607; E.O. 9397 (SSN); and Rule for Court-Martial 502(d)(5), Manual for Court-Martial; and the Victims' Rights and Restitution Act of 1990.

Purpose(s):

To prosecute or otherwise resolve military justice cases.

To obtain support from the U.S. Department of Justice on requests for immunity for civilian witnesses.

To obtain information from a Federal, state, local, or foreign agency, or from an individual or organization, relating to an investigation, charges, or court-martial.

To provide information and support to victims and witnesses in compliance with the Victim and Witness Assistance Program, Sexual Assault Prevention and Response Program, and the Victims' Rights and Restitution Act of 1990.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Department of Justice to obtain support for requests for immunity for civilian witnesses.

To a Federal, state, local, or foreign agency, or to an individual or organization, if there is reason to believe that such agency, individual, or organization possesses information relating to the investigation, charges, or court-martial, and the disclosure is reasonably necessary to elicit such information or to obtain the cooperation of a witness or an informant.

To victims and witnesses to comply with the Victim and Witness Assistance Program, Sexual Assault Prevention and Response Program, and the Victims' Rights and Restitution Act of 1990.

To attorney licensing and/or disciplinary authorities as required to support professional responsibility investigations and proceedings.

The “Blanket Routine Uses” that appear at the beginning of the Navy's compilation of systems of records notices also apply to this system.

Policies and practices for storing, retrieving, accessing, retaining, and disposing of records in the system:

Storage:

Paper and automated records.

Retrievability:

Name and/or Social Security Number, year of case.

Safeguards:

Classified information is stored in locked safe drawers with the proper security measures applicable. Unclassified information is located in file cabinets. Some file cabinets have locking capabilities. Automated files are password protected. Offices are locked during non-working hours. The files are not accessible to the public or to persons within the command without an official need to know.

Retention and disposal:

Files relating to pretrial matters are destroyed when two years old or purpose is served. Files relating to court-martial reviews and appeals are destroyed four years after completion of appellate review.

System manager(s) and address:

Commander, Naval Legal Service Command, Washington Navy Yard, 1322 Patterson Avenue SE, Suite 3000, Washington, DC 20374-5066 and at the Trial Service Office, Detachment, or Branch Office where the matter was handled.

Notification procedure:

Individuals seeking to determine whether this system of records contains information about themselves should address written inquiries to the cognizant Trial Service Office, Detachment, or Branch Office. Official mailing addresses are published as an appendix to the Navy's compilation of systems of records notices.

The request should include the full name, Social Security Number, and address of the individual concerned; the name of the case; and any other identifying information which may be of assistance in locating the record. The request must be signed.

Record access procedures:

Individuals seeking access to information about themselves contained in this system should address written inquiries to the cognizant Trial Service Office, Detachment, or Branch Office. Official mailing addresses are published as an appendix to the Navy's compilation of systems of records notices.

The request should include the full name, Social Security Number, and address of the individual concerned; the name of the case; and any other identifying information that may be of assistance in locating the record. The request must be signed.

Contesting record procedures:

The Navy's rules for accessing records, and for contesting contents and appealing initial agency determinations are published in Secretary of the Navy Instruction 5211.5; 32 CFR part 701, or may be obtained from the system manager.

Record source categories:

Court-martial, Article 32, UCMJ investigations, Courts or Boards of Inquiry or other administrative or disciplinary hearings; convening authorities; Federal, state, and local law enforcement agencies; witness interviews; personnel, financial, and medical records; medical facilities; financial institutions; case tracking programs and files; and the work-product of trial counsel, legalmen, and legal assistants working on particular cases.

Exemption claimed for the system:

Parts of this system may be exempt pursuant to 5 U.S.C. 552a(j)(2) if the information is compiled and maintained by a component of the agency which performs as its principle function any activity pertaining to the enforcement of criminal laws.

Information specifically authorized to be classified under E.O. 12958, as implemented by DoD 5200.1-R, may be exempt pursuant to 5 U.S.C. 552a(k)(1).

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this system has been promulgated in accordance with requirements of 5 U.S.C. 553(b)(1), (2), and (3), (c), and (e) and published in 32 CFR part 701, subpart G. For additional information, contact the system manager.

[FR Doc. 00-8183 Filed 4-3-00; 8:45 am]

BILLING CODE 5001-10-F